DEPARTMENT OF VETERANS AFFAIRS

Public Availability of the Department of Veterans Affairs Fiscal Year (FY) 2015 Service Contract Inventory Report and FY 2016 Service Contract Proposed Analysis

AGENCY: Department of Veterans Affairs.

ACTION: Notice of public availability of the FY 2015 Service Contract Inventories.

SUMMARY: In accordance with Section 743 of Division C of the Consolidated Appropriations Act of 2010, Department of Veterans Affairs is publishing this notice to advise the public of the availability of the FY 2015 Service Contract Inventory Analysis Report and FY 2016 proposed analysis. The FY 2015 analysis report discusses the methodology, analysis, and special interest functions studied from the FY 2015 inventory, as well actions, planned and taken, to address any identified weaknesses or challenges. The inventory information is organized by function to show how contracted resources are distributed throughout the agency. The report and inventory were developed in accordance with guidance issued on November 5, 2010, and updated on December 19, 2011, by the Office of Management and Budget's Office of Federal Procurement Policy (OFPP). OFPP's guidance is available at http://www.whitehouse.gov/omb/procurement-service-contract-inventories. The Department of Veterans Affairs has posted the report, inventory, and a summary of the inventory on the Department of Veterans Affairs, Office of Procurement Policy Web site at the following link: www.va.gov/oal/business/pps/scaInventory.asp. This information is also publicly available at www.acquisition.gov/service-contract-inventory, where the government-wide inventory can be filtered to display the Department of Veterans Affairs inventory data.

FOR FURTHER INFORMATION CONTACT: Questions regarding the service contract inventory should be directed to Dr. Sheila Darrell, Director of Procurement Policy and Warrant Management Service, in the Office of Acquisition and Logistics (OA&L) Policy Division (003A2A) at (202) 632-5261 or Sheila.Darrell@VA.gov.

Signing Authority

The Secretary of Veterans Affairs, or designee, approved this document and authorized the undersigned to sign and submit the document to the Office of the Federal Register for publication electronically as an official document of the Department of Veterans Affairs. Gina S. Farrisee, Deputy Chief of Staff, Department of Veterans Affairs, approved this document on June 15, 2017, for publication.

Dated: June 15, 2017.
Jeffrey Martin,
Office Program Manager, Office of Regulation Policy & Management, Office of the Secretary, Department of Veterans Affairs.

[FR Doc. 2017-19228 Filed 9-11-17; 8:45 am]

BILLING CODE 8320-01-P